FEDERAL COMMUNICATIONS COMMISSION

Notice of Public Information Collection(s) Being Reviewed by the Federal Communications Commission, Comments Requested

December 22, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 5, 2001. If you anticipate that you will be submitting comments, but find it difficult to do so within the period of time allowed by this notice, you should advise the contact listed below as soon as possible.

ADDRESSES: Direct all comments to Les Smith, Federal Communications Commissions, 445 12th Street, SW., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Approval Number: 3060-0698.

Title: Amendment of the Commission's Rules to Establish a Radio Astronomy Coordination Zone in Puerto Rico (ET Docket No. 96-2).

Form No.: None.

Type of Review: Extension of a currently approved collection.

Number of Respondents: 500.

Estimated Time Per Response: 1 hour.

Total Annual Burden: 300 hours.

Total Annual Cost: $3,000.

Needs and Uses: By Report and Order the Commission has established a Coordination Zone that covers the Islands of Puerto Rico, Desecheo, Mona, Vieques, and Culebra within the Commonwealth of Puerto Rico (the Puerto Rico Islands). The coordination zone and notifications procedures will enable the Arecibo Radio Astronomy Observatory (Observatory) to receive information needed to assess whether an applicant's proposed operations will cause harmful interference to the Observatory's operations and will promote efficient resolution of coordination problems between the applicants and the Observatory.

OMB Control No.: 3060-0224.

Title: 90.151 Requests for waiver.

Form No.: N/A.

Type of Review: Extension of currently approved collection.

Respondents: Business or other for-profit, Not-for-profit institutions, State, Local or Tribal Government.

Number of Respondents: 60.

Frequency of Response: Reporting on occasion.

Total Annual Burden: 120 hours.

Needs and Uses: Rule requires applicants who request waiver of various rules to submit justification for the proposed waiver. This is necessary to enable the FCC to make an informed decision on requests.

OMB Control No.: 3060-0508.

Title: Rewrite and Update of Part 22.

Form No.: N/A.

Type of Review: Extension of currently approved collection.

Respondents: Business or other for-profit.

Number of Respondents: 107,772.

Frequency of Response: On occasion, quarterly, semi-annually, annually.

Total Annual Burden: 266,505 hours.

Needs and Uses: Part 22 contains the technical and legal requirements for radio stations operating in the Public Mobile Services. Generally the collected information is used to determine legal, technical and/or financial qualifications of the respondents.

OMB Control No.: 3060-0739.

Title: Amendment of the Commission's Rules to Establish Competitive Service Safeguards for Local Exchange Carrier Provision of Commercial Mobile Radio Services.

Form No.: N/A.

Type of Review: Extension of a currently approved collection.

Respondents: Business or other for-profit.

Number of Respondents: 19.

Frequency of Response: Reporting—One time submission.

Total Annual Burden: 116,456 hours.

Needs and Uses: This proceeding proposes to require Tier 1 Local Exchange Carriers (LEC) to submit nonstructural safeguard plans to the Commission for approval prior to their offering of Personal Communications Service (PCS).

Federal Communications Commission.
William F. Caton,
Deputy Secretary.

[FR Doc. 00-33380 Filed 12-29-00; 8:45 am]

BILLING CODE 6712-01-U